DEPARTMENT OF THE INTERIOR

Minerals Management Service

Minerals Management Advisory Board Notice of Renewal

AGENCY: Minerals Management Service, Interior.

SUMMARY: This notice is published in accordance with section 9(a)(2) of the Federal Advisory Committee Act (5 U.S.C. Appendix). Notice is hereby given that the Secretary of the Interior is renewing the Minerals Management Advisory Board Charter.

FOR FURTHER INFORMATION CONTACT: Department of the Interior, Minerals Management Service, Office of Policy and Management Improvement, Mail Stop 4230, 1849 C Street, NW., Washington, DC 20240-0001.

SUPPLEMENTARY INFORMATION: The purpose of the Minerals Management Advisory Board is to provide advice to the Secretary of the Interior and other officers of the Department of the Interior in the performance of discretionary functions of the Outer Continental Shelf Lands Act, as amended, including all aspects of leasing, exploration, development, and protection of the resources of the OCS. It also allows the Board to advise the Department on discretionary functions under the Federal Oil and Gas Royalty Management Act of 1982, the Federal Oil and Gas Royalty Simplification and Fairness Act, the Geothermal Steam Act of 1970, the Mineral Leasing Act, and the Mineral Leasing Laws for Indian Lands.

Certification

I hereby certify that the renewal of the Minerals Management Advisory Board Charter is in the public interest in connection with the performance of duties imposed on the Department of the Interior by 43 U.S.C. 1331 et seq., 30 U.S.C. 1701 et seq., and 30 U.S.C. 1001 et seq.

Dated: September 6, 2002.
Gale A. Norton,
Secretary of the Interior.

[FR Doc. 02-23272 Filed 9-12-02; 8:45 am]

BILLING CODE 4310-MR-P